DEPARTMENT OF THE INTERIOR

National Park Service

Final Environmental Impact Statement and Comprehensive Management Plan; Merced Wild and Scenic River; Yosemite National Park; Madera and Mariposa Counties, California; Notice of Availability

SUMMARY: Pursuant to section 102(2)(C) of the National Environmental Policy Act of 1969 (Pub. L. 91-190, as amended), and the Council of Environmental Quality regulations (40 CFR 1500), the National Park Service, Department of the Interior has prepared a Final Environmental Impact Statement identifying and evaluating five alternatives for a Merced Wild and Scenic River Comprehensive Management Plan (Merced River Plan) for segments of the river within lands managed by the National Park Service at Yosemite National Park, California. Potential impacts, and appropriate mitigation measures, are assessed for each alternative. Responses to public comment are provided in the document. When approved, the plan will guide management actions during the next 15-20 years which are necessary to protect and enhance the “Outstandingly Remarkable Values” (ORVs) for which the river was designated, pursuant to the Wild and Scenic Rivers Act, as amended (16 U.S.C. 1271).

Proposal: The proposed Merced River Plan (Alternative 2—Preferred) would provide management direction for the Merced Wild and Scenic River by establishing seven management elements: ORVs, boundaries, classifications, Section 7 determination, River Protection Overlay (RPO), management zoning, and research and monitoring. The Wild and Scenic Rivers Act requires the first four elements; the final three elements were developed in the Merced River Plan to respond to the Act's requirement to protect and enhance ORVs. This plan modifies the ORVs, boundaries and classifications from the present situation to respond to public comment, to more accurately respond to the Wild and Scenic Rivers Act, and to reflect updated information. The proposed alternative presents the management elements to guide future decision-making and management actions with the intent that natural processes will prevail.

Alternatives: In addition to the proposal, four other alternatives are identified and analyzed. Alternative 1 (“no action”) is a continuation of the existing situation, based on the ORVs, boundaries, and classifications as published in the 1996 Draft Yosemite Valley Housing Plan/Supplemental EIS. If approved, Alternative 1 will not implement the three management elements—establishment of a RPO, management zoning, and a research and monitoring program—that are not required by the Act. Nor would it present the specific Section 7 determination process outlined in the proposed action.

Alternative 3 differs from the proposed alternative (Alternative 2) with regard to the boundaries, classifications, and management zones. The effect of the differences would promote more resource protection, using a narrower corridor in east Yosemite Valley and in Wawona, within the river corridor than under Alternative 2.

Alternative 4 varies from Alternatives 2 and 3 by presenting yet another combination of boundaries, classifications and management zoning. Of the alternatives presented, Alternative 4 would present the most resource protection within the developed areas along the Merced River.

Alternative 5 presents the same boundaries and classifications as Alternative 4, but with zoning that would allow for more use and facilities in developed areas than that presented under any of the other action alternatives. In addition, there would be no river protection overlay under Alternative 5, reducing the ability to protect the areas immediately adjacent to the Merced.

Planning Background: The draft and final Merced River Plan/EIS were prepared pursuant to the Wild and Scenic Rivers Act and National Environmental Policy Act. A Scoping Notice was published in the Federal Register on June 11, 1999; and the Notice of Intent was published on August 23, 1999. An intensive scoping phase was undertaken during June and July 1999, which included a series of six public meetings. The invitation letter requesting input into the development of the draft Merced River Plan/EIS was sent to the park's general mailing list. In addition, the scoping effort was publicized via regional and local media and on the park's Webpage. As a result of this outreach, over 330 responses were received and used in the development of issues upon which preparation of the draft Merced River Plan/EIS was based. A summary of the scoping process is available on the park's Webpage (address noted below). On January 7, 2000, a Notice of Availability for the Draft Merced Wild and Scenic River Comprehensive Management Plan/EIS appeared in the Federal Register. A press briefing was held earlier the same week to raise public awareness of the plan. Over 9000 plans were mailed to each person or organization listed on the park's mailing list. A 70-day public comment period began on January 14, 2000 and ended on March 24, 2000. Fourteen public hearings were held throughout the state of California in January and February. Local press was notified days in advance of each meeting to help raise awareness of the meetings. Yosemite National Park management and planning officials attended all sessions to present the draft Merced River Plan/EIS, to receive oral and written comments, and to answer questions. More than 2300 comments were received by mail, fax, electronic mail, recorded testimony, and other means.

Distribution of MRP/Final EIS: A post-card was mailed to all individuals and organizations on the park's general mailing list to determine whether a printed copy or a CD-ROM version (or both) of the Merced River Plan/FEIS should be mailed to the respective address. Another option presented on the postcard was to receive nothing by mail, considering that the complete final plan will be available on the park's website (http://www.nps.gov/yose/planning). Still another option was to receive a “user's guide” after a Record of Decision is signed. In view of these options, the Merced River Plan/FEIS will be mailed, in format requested, until quantities are exhausted. Copies will also be available at park headquarters in Yosemite Valley, the Warehouse Building in El Portal, and at local and regional libraries (i.e., San Francisco and Los Angeles).

Decision Process: Depending upon the response from other agencies, organizations and the general public, at this time it is anticipated that the notice of an approved Record of Decision would be published in the Federal Register not sooner than July 31, 2000 (nor would it be signed until at least 30 days have elapsed after publication by the EPA of the filing notice for the Final MRP/EIS). The official responsible for the decision is the Regional Director, Pacific West Region, National Park Service; the official responsible for implementation is the Superintendent, Yosemite National Park.

Dated: June 23, 2000.
Patricia L. Neubacher,
Acting Regional Director, Pacific West Region.

[FR Doc. 00-16703 Filed 6-30-00; 8:45 am]

BILLING CODE 4310-70-P